DEPARTMENT OF COMMERCE

International Trade Administration

[A-570-601]

Tapered Roller Bearings and Parts Thereof, Finished and Unfinished, from the People's Republic of China; Extension of Time Limit for the Final Results of the 2008-2009 Administrative Review of the Antidumping Duty Order

AGENCY: Import Administration, International Trade Administration, Department of Commerce.

FOR FURTHER INFORMATION CONTACT: Brendan Quinn or Trisha Tran, AD/CVD Operations, Import Administration, International Trade Administration, U.S. Department of Commerce, 14th Street and Constitution Avenue, NW., Washington, DC 20230, telephone: (202) 482-5848 or (202) 482-4852, respectively.

SUPPLEMENTARY INFORMATION:

Background

On July 29, 2009, the Department of Commerce (“Department”) initiated the administrative review of the antidumping duty order on tapered roller bearings and parts thereof, finished or unfinished (“TRBs”), from the People's Republic of China (“PRC”) for the period June 1, 2008, through May 31, 2009. See Initiation of Antidumping and Countervailing Duty Administrative Reviews and Deferral of Administrative Review, 74 FR 37690 (July 29, 2009). On July 15, 2010, the Department published its preliminary results of the administrative review of the antidumping order on TRBs from the PRC. See Tapered Roller Bearings and Parts Thereof, Finished or Unfinished, from the People's Republic of China: Preliminary Results of the 2008-2009 Administrative Review of the Antidumping Duty Order, 75 FR 41148 (July 15, 2010). The final results of this administrative review are currently due no later than November 12, 2010.

Extension of Time Limit for Final Results

Section 751(a)(3)(A) of the Tariff Act of 1930, as amended (“the Act”), requires the Department to issue the final results in an administrative review within 120 days after the date on which the preliminary results are published. However, if it is not practicable to complete the review within this time period, section 751(a)(3)(A) of the Act allows the Department to extend the time period to a maximum of 180 days.

We determine that it is not practicable to complete the final results of this review within the original time limit because the Department requires additional time to analyze: (a) Issues raised in post-preliminary results supplemental questionnaire responses; (b) issues raised in recent surrogate value submissions; and (c) the anticipated complexity of arguments in the upcoming case and rebuttal briefs due to surrogate valuation, successor-in-interest, and scope issues with regard to the respondents. Therefore, given the complexity of issues in this case, we are extending the time limit for completion of the final results by 30 days.

An extension of 30 days from the current deadline of November 12, 2010, would result in a new deadline of December 12, 2010. However, since December 12, 2010, falls on a Sunday, a non-business day, the final results will now be due no later than December 13, 2010, the next business day.

This notice is published pursuant to sections 751(a) and 777(i) of the Act.

Dated: September 15, 2010.
Susan H. Kuhbach,
Acting Deputy Assistant Secretary for Antidumping and Countervailing Duty Operations.

[FR Doc. 2010-23551 Filed 9-20-10; 8:45 am]

BILLING CODE 3510-DS-P